DEPARTMENT OF ENERGY

Golden Field Office; Notice of Solicitation for Financial Assistance Applications; Million Solar Roofs Initiative Small Grant Program for State and Local Partnerships

AGENCY: Department of Energy.

ACTION: Notice of solicitation for financial assistance applications number DE-PS36-01GO90001

SUMMARY: The U.S. Department of Energy (DOE), pursuant to the DOE Financial Assistance Rules, 10 CFR 600.8, is announcing its intention to solicit applications for Million Solar Roofs Program for State and Local Partnerships. The selected applicants will receive financial assistance under a grant with DOE.

DATES: The solicitation will be issued in mid December, 2000.

ADDRESSES: To obtain a copy of the Solicitation once it is issued, interested parties must access the Golden Field Office Application, Award and Solicitation page at http://www.golden.doe.gov/businessopportunities.html, click on “solicitations” and then locate the solicitation number identified above. DOE does not intend to issue written copies of the solicitation.

SUPPLEMENTARY INFORMATION: DOE's Million Solar Roofs (MSR) Initiative is an initiative to install solar energy systems on one million U.S. buildings by 2010. It was announced by President Clinton on June 26, 1997 in his speech before the United Nations Session on Environment and Development. This effort includes two types of solar energy technology—photovoltaics that produce electricity from sunlight and solar thermal panels that produce heat for domestic hot water, space heating or heating swimming pools. A key strategy of the Initiative is to catalyze market demand in local areas through the establishment of State and Local MSR Partnerships. The overall goal of this solicitation is to assist State and Local Partnerships in contributing to the installation of one million solar energy systems on U.S. rooftops by the year 2010.

The MSR Partnerships bring together business, government and community organizations, (e.g., solar energy educational organizations, or not-for-profit housing agencies) at the regional level with a commitment to install a pre-determined number of solar energy systems. DOE provides access to a variety of financing options, training and technical assistance from DOE=s existing infrastructure, recognition and support, and a link to solar energy businesses, associations and related industries that can provide assistance. New MSR Partnerships can declare their intent to join the Initiative by including such a letter with their application for this solicitation. A complete description of partnerships and their representative activities can be found on the MSR website at http://www.eren.doe.gov/millionroofs/ DOE's Office of Energy Efficiency and Renewable Energy will only consider proposals from interested State and Local Partnerships to help fund their MSR program development and implementation activities. Grant awards will be administered by the DOE Regional Offices. DOE intends to allocate a portion of total available funding to each of the six DOE regions based on the number of MSR Partnerships and the potential for new partnerships to be established in each Region. Applicants will only be competing against other partnerships in their DOE region. The project or activity must be conducted in a designated MSR partnership community. Any member of a State or Local Partnership, except industry associations, can apply on behalf of the Partnership, including builders, energy service providers, utilities, non-governmental organizations, local governments, or state governments. The different organizations/offices involved in a State or Local Partnership are encouraged to collaborate on their response to this solicitation. There is no cost-sharing requirement for these grants although cost-sharing will be favorably considered in the selection process. Subject to the availability of funds, 20-50 awards totaling $1,500,000 (DOE funding) in FY 2001 are anticipated to be awarded as a result of this Solicitation. DOE funding for individual awards will be up to $50,000 in size. Solicitation number DE-PS36-01GO90001 will include complete information on the program including technical aspects, funding, application preparation instructions, application evaluation criteria, and other factors that will be considered when selecting applications for funding. No pre-application conference is planned. Issuance of the solicitation is planned for mid December, with applications due 45 days after the solicitation has been issued.

FOR FURTHER INFORMATION CONTACT: James McDermott, Contract Specialist, at 303-275-4732, e-mail jim_mcdermott@nrel.gov. Responses to questions will be made by amendment to the solicitation and will be posted on the DOE Golden Field Office Home Page.

Issued in Golden, Colorado, on December 7, 2000.
Jerry Zimmer,
Director, Office of Acquisition and Financial Assistance.

[FR Doc. 00-32119 Filed 12-15-00; 8:45 am]

BILLING CODE 6450-01-P